DEPARTMENT OF COMMERCE

National Oceanic and Atmospheric Administration

RIN 0648-XC475

Council Coordination Committee Meeting

AGENCY: National Marine Fisheries Service (NMFS), National Oceanic and Atmospheric Administration (NOAA), Commerce.

ACTION: Notice of a public meeting.

SUMMARY: NMFS will host a meeting of the Council Coordination Committee (CCC), consisting of the Regional Fishery Management Council chairs, vice chairs, and executive directors in February 2013. The intent of this meeting is to discuss issues of relevance to the Councils, including FY 2013 budget allocations and budget planning for FY 2014 and beyond, National Standard One update, fisheries allocation, Managing Our Nations Fisheries III Conference, electronic monitoring of fisheries, and other topics related to implementation of the Magnuson-Stevens Fishery Conservation and Management Act (MSA).

DATES: The meeting will begin at 9 a.m. on Wednesday, February 20, 2013, recess at 5:30 p.m. or when business is complete; and reconvene at 9 a.m. on Thursday, February 21, 2013, and adjourn by 5 p.m. or when business is complete.

ADDRESSES: The meeting will be held at the Sheraton Silver Spring Hotel, 8777 Georgia Avenue, Silver Spring, MD 20001, telephone 301-589-0800, fax 301-589-4791.

FOR FURTHER INFORMATION CONTACT: William D. Chappell: Telephone 301-427-8505 or email at William.Chappell@noaa.gov; or Tara Scott: Telephone 301-427-8505 or email at Tara.Scott@noaa.gov.

SUPPLEMENTARY INFORMATION: The Magnuson-Stevens Fishery Conservation and Management Reauthorization Act (MSRA) of 2006 established the Council Coordination Committee (CCC) by amending Section 302 (16 U.S.C. 1852) of the MSA. The committee consists of the chairs, vice chairs, and executive directors of each of the eight Regional Fishery Management Councils authorized by the MSA or other Council members or staff. NMFS will host this meeting and provide reports to the CCC for its information and discussion. All sessions are open to the public.

Proposed Agenda

Wednesday, February 20, 2013

9 a.m.—Morning Session Begins

9 a.m.-9:20—Welcome and introductions

9:20-9:30—Report on Kona meeting actions and issues

9:30-10:30—Council reports on status of implementing MSA provisions and other current activities of interest (10 min/Council)

• Top three priorities

• New species status designations, rebuilding plans, or management approaches

• Problems/concerns/other issues

10:30-10:45—Break

10:45-11:15—Council reports (continued)

11:15-12:15—Management and Budget Update

• FY2012: Status, Council funding

• FY2013: Update

• Longer term discussion

• National Appeals Office

12:15—Lunch

1:45—Afternoon Session Begins

1:45-2:30—Councils/Marine Fisheries Advisory Committee Endangered Species Act (ESA) Working Group update

2:30-3:30—MSA—National Standard One update

3:30-3:45—Break

3:45-4:30—NOAA/NOAA Fisheries Policy on National Environmental Protection Act (NEPA)

4:30-5:30—Fisheries allocation

5:30—Adjourn for the day

Thursday, February 21, 2013

9 a.m.—Morning Session Begins

9 a.m.-9:45—Update on Inspector General Report on MSA Rulemaking

9:45-10:15—National science programs review

10:15-10:30—Break

10:30-11:30—Electronic monitoring of fisheries

11:30-12 p.m.—Fisheries litigation update

12 p.m.—Lunch

1:30—Afternoon Session Begins

1:30-2:30—Council records retention, Freedom of Information Act (FOIA), and meeting guidance

2:30-3:15—MSA Reauthorization

3:15-3:30—Break

3:30-4:15—Managing Our Nation's Fisheries (MONF) III Conference

• Conference structure review

• CCC consideration of (MONF) III results

• Questions

4:15-4:30—Recognition of service to fisheries

• Steve Bortone

• Paul Howard

• Gloria Thompson

4:30-5 p.m.—Other Business, updates, and next annual CCC Meeting

5 p.m.—Adjourn

The order in which the agenda items are addressed may change. The CCC will meet as late as necessary to complete scheduled business.

Special Accommodations

This meeting is physically accessible to people with disabilities. Requests for sign language interpretation or other auxiliary aids should be directed to Tara Scott at 301-427-8505 at least five working days prior to the meeting.

Dated: January 30, 2013.
Emily H. Menashes,
Deputy Director, Office of Sustainable Fisheries, National Marine Fisheries Service.

[FR Doc. 2013-02373 Filed 2-1-13; 8:45 am]

BILLING CODE 3510-22-P